DEPARTMENT OF COMMERCE

International Trade Administration

[A-533-869]

Certain New Pneumatic Off-the-Road Tires From India: Final Results of Antidumping Duty Administrative Review; 2021-2022

AGENCY: Enforcement and Compliance, International Trade Administration, Department of Commerce.

SUMMARY: The U.S. Department of Commerce (Commerce) finds that certain producers/exporters subject to this administrative review made sales of subject merchandise at less than normal value during the period of review (POR) March 1, 2021, through February 28, 2022.

DATES: Applicable October 12, 2023.

FOR FURTHER INFORMATION CONTACT: Lilit Astvatsatrian or Caroline Carroll, AD/CVD Operations, Office IX, Enforcement and Compliance, International Trade Administration, U.S. Department of Commerce, 1401 Constitution Avenue NW, Washington, DC 20230; telephone: (202) 482-6412 or (202) 482-4948, respectively.

SUPPLEMENTARY INFORMATION:

Background

On April 6, 2023, Commerce published the Preliminary Results.¹ On June 26, 2023, Commerce extended the time period for issuing the final results of this review until October 3, 2023.² For a complete description of the events that occurred since the Preliminary Results, see the Issues and Decision Memorandum.³ Commerce conducted this administrative review in accordance with section 751 of the Tariff Act of 1930, as amended (the Act).

¹ See Certain New Pneumatic Off-the-Road Tires from India: Preliminary Results of Antidumping Duty Administrative Review; 2021-2022, 88 FR 20471 (April 6, 2023) (Preliminary Results), and accompanying Preliminary Decision Memorandum (PDM).

² See Memorandum, “Extension of Deadline for Final Results of Antidumping Duty Administrative Review; 2021-2022,” dated June 26, 2023.

³ See Memorandum, “Issues and Decision Memorandum for the Final Results of the 2021-2022 Administrative Review of the Antidumping Duty Order on Certain New Pneumatic Off-the-Road Tires from India,” dated concurrently with, and hereby adopted by, this notice (Issues and Decision Memorandum).

Scope of the Order ⁴

⁴ See Certain Now Pneumatic Off-the-Road Tires from India: Antidumping Duly Order, 82 FR 12553 (March 6, 2017) (Order).

The merchandise subject to the Order is certain new pneumatic off-the-road tires, which are tires with an off road tires size designation.⁵ The subject merchandise is currently classifiable under Harmonized Tariff Schedule of the United States (HTSUS) subheadings: 4011.20.1025, 4011.20.1035, 4011.20.5030, 4011.20.5050, 4011.70.0010, 4011.62.0000, 4011.80.1010, 4011.80.1020, 4011.90.1050, 4011.70.0050, 4011.80.2010, 4011.80.8010, 4011.80.2020, 4011.80.8020, 8431.49.9038, 8431.49.9090, 8709.90.0020, and 8716.90.1020. Tires meeting the scope description may also enter under the following HTSUS subheadings: 4011.90.2050, 4011.90.8050, 8424.90.9080, 8431.20.0000, 8431.39.0010, 8431.49.1090, 8431.49.9030, 8432.90.0020, 8432.90.0040, 8432.90.0050, 8432.90.0060, 8432.90.0081, 8433.90.5010, 8503.00.9560, 8708.70.0500, 8708.70.2500, 8708.70.4530, 8716.90.5035, 8716.90.5056 and 8716.90.5059. While HTSUS subheadings are provided for convenience and customs purposes, the written description of the subject merchandise is dispositive.

⁵ For a complete description of the scope of the Order, see Preliminary Results PDM.

Analysis of Comments Received

All issues raised in the case and rebuttal briefs are addressed in the Issues and Decision Memorandum. A list of the issues that parties raised, and to which we responded in the Issues and Decision Memorandum, is attached to this notice in Appendix I. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on a review of the record and comments received from interested parties regarding our Preliminary Results, we made certain changes to the margin calculations for ATC and ATF.⁶

⁶ For a full description of changes, see Issues and Decision Memorandum.

Rates for Companies Not Selected for Individual Examination

Generally, Commerce looks to section 735(c)(5) of the Act, which provides instructions for calculating the all-others rate in an investigation, for guidance for calculating the rate for companies which were not selected for individual examination in an administrative review. Under section 735(c)(5)(A) of the Act, the all-others rate is normally “an amount equal to the weighted-average of the estimated weighted-average dumping margins established for exporters and producers individually investigated, excluding any zero or de minimis margins, and any margins determined entirely {on the basis of facts available}.”

In this review, we calculated weighted-average dumping margins of 2.29 percent and 8.57 percent for ATC and ATF, respectively. With two respondents under individual examination, Commerce normally calculates: (A) a weighted-average of the estimated dumping rates calculated for the examined respondents; (B) a simple average of the estimated dumping rates calculated for the examined respondents; and (C) a weighted-average of the estimated dumping rates calculated for the examined respondents using each company's publicly-ranged U.S. sale values for the merchandise under consideration. Commerce then compares (B) and (C) to (A) and selects the rate closest to (A) as the most appropriate rate for all other producers and exporters.⁷

⁷ See, e.g., Ball Bearings and Parts Thereof from France, Germany, Italy, Japan, and the United Kingdom: Final Results of Antidumping Duty Administrative Reviews, Final Results of Changed-Circumstances Review, and Revocation of an Order in Part, 75 FR 53661, 53663 (September 1, 2010).

Consistent with our practice, we have determined that 2.56 percent, which is the weighted average of ATC and ATF's margins based on publicly ranged data, will be assigned to the non-examined companies under section 735(c)(5)(A) of the Act.⁸ These companies are listed in Appendix II.

⁸ See Memorandum, “Calculation of the Cash Deposit Rate for Non-Selected Companies,” dated concurrently with this notice.

Final Results of Review

As a result of this review, we determine the following estimated weighted-average dumping margins for the period March 1, 2021, through February 28, 2022:

Producer or exporter | Weighted- average dumping margin (percent)
ATC Tires Pvt. Ltd | 2.29
Asian Tire Factory Ltd | 8.57
Companies Not Selected for Individual Review ⁹ | 2.56

Disclosure

⁹ The exporters or producers not selected for individual review are listed in Appendix II.

Commerce intends to disclose the calculations performed for ATC and ATF in connection with these final results to interested parties within five days of the date of publication of this notice, in accordance with 19 CFR 351.224(b).

Assessment Rates

Pursuant to section 751(a)(2)(C) of the Act, and 19 CFR 351.212(b)(1), Commerce has determined, and U.S. Customs and Border Protection (CBP) shall assess, antidumping duties on all appropriate entries of subject merchandise in accordance with the final results of this review.

Pursuant to 19 CFR 351.212(b)(1), because ATC reported the entered value of its U.S. sales, we calculated importer-specific ad valorem duty assessment rates based on the ratio of the total amount of dumping calculated for the examined sales to the total entered value of the sales for which entered value was reported. ATF did not report the actual entered value for its U.S. sales; thus, we calculated importer-specific per-unit duty assessment rates by aggregating the total amount of antidumping duties calculated for the examined sales and dividing this amount by the total quantity of those sales. Where either the respondent's weighted-average dumping margin is zero or de minimis within the meaning of 19 CFR 351.106(c)(1), or an importer-specific assessment rate is zero or de minimis, we will instruct CBP to liquidate the appropriate entries without regard to antidumping duties.

For the companies not selected for individual review, we used an assessment rate based on the weighted average of the cash deposit rates calculated for ATC and ATF. The final results of this review shall be the basis for the assessment of antidumping duties on entries of merchandise covered by the final results of this review and for the future deposits of estimated duties where applicable.¹⁰

¹⁰ See section 751(a)(2)(C) of the Act.

Commerce's “automatic assessment” practice will apply to entries of subject merchandise during the POR produced by ATC or ATF for which the reviewed companies did not know that the merchandise they sold to the intermediary (e.g., a reseller, trading company, or exporter) was destined for the United States. In such instances, we will instruct CBP to liquidate unreviewed entries at the all-others rate if there is no rate for the intermediate company(ies) involved in the transaction.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) the cash deposit rate for the companies covered in this review will be equal to the weighted-average dumping margin that is established in the final results of this review, except if the rate is less than 0.50 percent and, therefore, de minimis within the meaning of 19 CFR 351.106(c)(1), in which case the cash deposit rate will be zero; (2) for previously investigated or reviewed companies not listed above, the cash deposit rate will continue to be the company-specific rate published for the most recently completed segment of this proceeding in which the company participated; (3) if the exporter is not a firm covered in this review, or the original less-than-fair-value (LTFV) investigation, but the manufacturer is, the cash deposit rate will be the cash deposit rate established for the most recently completed segment for the producer of the subject merchandise; and (4) the cash deposit rate for all other producers or exporters will continue to be zero percent, the all-others rate established in the LTFV investigation.¹¹ These deposit requirements, when imposed, shall remain in effect until further notice.

¹¹ See Order, 82 FR at 12554 (the dumping margin of 3.67 percent assigned to all other producers/exporters was adjusted for export subsidies found in the companion countervailing duty investigation).

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice serves as the only reminder to parties subject to administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

This notice is issued and published in accordance with sections 751(a)(1) and 777(i)(1) of the Act.

Dated: October 3, 2023.
Lisa W. Wang,
Assistant Secretary for Enforcement and Compliance.

Appendix I—List of Topics Discussed in the Issues and Decision Memorandum

I. Summary

II. Background

III. Margin Calculations

IV. Discussion of the Issues

Comment 1: Whether Commerce Should Reconsider its Differential Pricing Analysis

Comment 2: Whether Commerce Should Make an Export Subsidy Adjustment for ATC

Comment 3: Whether to Deduct Countervailing Duties in the Net U.S. Price Calculation for ATC

Comment 4: Whether to Grant a Constructed Export Price (CEP) Offset for ATC

Comment 5: Whether Commerce Should Deduct Certain Duties ATC Reported from its Home Market Gross Unit Price

Comment 6: Assigning YOHTA as Importer for ATC

Comment 7: Miscellaneous Verification Issues for ATC

Comment 8: Treatment of ATF's Billing Adjustments as Freight Revenue

Comment 9: Inclusion of Certain Expenses in ATF's U.S. Duties

Comment 10: Whether Upward Adjustments to ATF's U.S Gross Unit Price for Duty Drawback or Certain Other Programs are Warranted

Comment 11: Exclusion of Balkrishna Industries Ltd.'s (BKT's) Sales

Comment 12: ATC's General and Administrative (G&A) Expenses

Comment 13: ATC's Purchases of Electricity from Affiliated Parties

Comment 14: Whether ATC's Duties Paid on Raw Materials Should be Treated as Direct Selling Expenses

Comment 15: Interest Expense Adjustment for ATF

V. Recommendation

Appendix II—List of Companies Not Selected for Individual Examination Receiving the Review-Specific Rate

1. Apollo Tyres Ltd.

2. Balkrishna Industries Ltd.¹²

¹² Subject merchandise produced and exported by Balkrishna Industries Ltd. (BKT) was excluded from the Order. See Certain New Pneumatic Off-the-Road Tires from India: Notice of Correction to Antidumping Duty Order, 82 FR 25598 (June 2, 2017). Accordingly, BKT is only covered by this administrative review for subject merchandise produced in India where BKT acted as either the manufacturer or exporter (but not both)

3. Cavendish Industries Ltd.

4. CEAT Ltd.

5. Celite Tyre Corporation ¹³

¹³ The name of this company was incorrectly listed as Celle Tyre Corporation in the Preliminary Results. See Preliminary Results, 88 FR at 20473.

6. Emerald Resilient Tyre Manufacturer

7. Forech India Private Limited

8. HRI Tires India

9. Innovative Tyres & Tubes Limited

10. JK Tyres and Industries Ltd.

11. K.R.M. Tyres

12. M/S. Caroline Furnishers Pvt Ltd.

13. Mahansaria Tyres Private Limited

14. MRF Limited

15. MRL Tyres Limited (Malhotra Rubbers Ltd.)

16. OTR Laminated Tyres (I) Pvt. Ltd.

17. Rubberman Enterprises Pvt. Ltd.

18. Speedways Rubber Company

19. Sun Tyres & Wheel Systems

20. Sundaram Industries Private Limited

21. Superking Manufacturers (Tyre) Pvt., Ltd.

22. TVS Srichakra Limited

[FR Doc. 2023-22452 Filed 10-11-23; 8:45 am]

BILLING CODE 3510-DS-P